DEPARTMENT OF ENERGY

Bonneville Power Administration

Klickitat Hatchery Upgrades

AGENCY: Bonneville Power Administration (BPA), Department of Energy (DOE).

ACTION: Notice of intent to prepare an Environmental Impact Statement (EIS) and notice of floodplain and wetlands assessment.

SUMMARY: In accordance with the National Environmental Policy Act (NEPA), BPA intends to prepare an EIS to determine whether to fund the Confederated Tribes of the Yakama Nation's proposal to upgrade facilities at the Klickitat Hatchery. The hatchery produces spring and fall Chinook salmon and coho salmon, and is funded by National Marine Fisheries Service (NMFS) under the Mitchell Act. It is operated jointly by the Yakama Nation and Washington Department of Fish and Wildlife (WDFW). The hatchery is located in Klickitat County on property owned by WDFW, about seven miles east of Glenwood, Washington. The hatchery was built in 1954 and most of the facilities have not been renovated since then.

The one-time upgrades would include improving surface and groundwater water intakes, discharge piping, and pumps; rebuilding the pollution abatement system; updating sections of the hatchery building; and adding rearing tanks, a storage building, and possibly staff residences. The proposed upgrades would update old facilities and would facilitate increased production of spring Chinook by the Yakama Nation. BPA is not proposing to fund fish production or to take over any Mitchell Act funding for the hatchery. NMFS will be a cooperating agency on the EIS.

In accordance with U.S. Department of Energy floodplain and wetland regulations, BPA will analyze impacts to floodplains and wetlands as well as measures to avoid or minimize potential effects to these resources. The assessment will be included in the EIS.

With this Notice of Intent, BPA is initiating the public scoping process for the EIS. BPA is requesting comments about potential environmental impacts that should be considered as an EIS is prepared.

In addition, BPA is also providing notice of cancellation of DOE/EIS-0424 Klickitat Hatchery Complex Program. Based on public comments on the 2011 draft DOE/EIS-0424, as well as changes in agencies' funding of various activities described in the EIS, BPA is canceling that environmental review process and will focus on the proposed Klickitat Hatchery Upgrades EIS.

DATES: Written comments are due to the address below no later than November 27, 2017. Comments may also be made at the scoping meeting to be held on October 25, 2017 at the address below.

ADDRESSES: Comments on the proposed scope of the Draft EIS and requests to be placed on the project mailing list may be mailed by letter to Bonneville Power Administration, Public Affairs Office—DKE-7, P.O. Box 3621, Portland, OR 97208-3621, or sent by fax to 503-230-4019. You may also call BPA's toll-free comment hotline at 1-800-622-4519 and leave a message (please include the name of the project), or submit comments online at www.bpa.gov/comment. All comments received will be accessible from the project Web site at www.bpa.gov/goto/KlickitatHatcheryUpgrades.

On October 25, 2017, a scoping meeting will be held from 6:00 p.m. to 8:00 p.m. at the Lyle Lions Community Center, Highway 14 and Third Street, Lyle, Washington 98365. At this informal open-house meeting, BPA will provide project information and maps and will make members of the project team available to answer questions and accept oral and written comments.

FOR FURTHER INFORMATION CONTACT: David Kennedy, Executive Manager Environmental Planning and Analysis, Bonneville Power Administration, EC-4, P.O. Box 3621, Portland, OR 97208-3621; toll-free telephone 1-800-282-3713; direct telephone 503-230-3769; or email dkkennedy@bpa.gov. Additional information can be found at the project Web site: www.bpa.gov/goto/KlickitatHatcheryUpgrades.

SUPPLEMENTARY INFORMATION: The Yakama Nation is proposing the Klickitat Hatchery upgrades to update old facilities and to facilitate a possible increase in production of spring Chinook salmon. Although the Klickitat population of spring Chinook is not listed under the Endangered Species Act (ESA), WDFW considers it depressed due to chronically low adult returns. On average, the Klickitat spring Chinook run comprises approximately 75% hatchery and 25% natural-origin fish. In addition, since 1994, low hatchery productivity has limited the average annual harvest in sport and Tribal fisheries in the Klickitat basin to 840 fish, although the overall project goal for in-basin sport and Tribal harvest is 3,000 adults annually.

BPA's proposed funding of the Klickitat Hatchery upgrades would support efforts to protect, mitigate, and enhance fish and wildlife affected by the development and operation of the Federal Columbia River Power System in the mainstem Columbia River and its tributaries, including the Klickitat River, under the Pacific Northwest Electric Power Planning and Conservation Act of 1980 (Act) (16 U.S.C. 839b(h)(10)). Under the Act, BPA funds fish and wildlife protection, mitigation, and enhancement actions consistent with the Northwest Power and Conservation Council's (Council) Fish and Wildlife Program. Under this program, the Council makes recommendations to BPA concerning which fish and wildlife projects to fund. The Klickitat Hatchery upgrades are being reviewed by the Council for recommendation to BPA for funding.

In addition, on May 2, 2008, BPA, the Bureau of Reclamation, and the U.S. Army Corps of Engineers signed the 2008 Columbia Basin Fish Accords Memorandum of Agreement with the Three Treaty Tribes: The Confederated Tribes and Bands of the Yakama Nation, the Confederated Tribes of the Umatilla Indian Reservation, and the Confederated Tribes of Warm Springs Reservation. The agreement includes funding for this hatchery project, subject to compliance with NEPA and other environmental review requirements.

The proposal is also consistent with the policy direction in BPA's Fish and Wildlife Implementation Plan EIS, which calls for protecting weak stocks while sustaining overall populations of fish for their economic and cultural value, including long-term harvest opportunities.

Upgrades at the existing hatchery would include rehabilitating existing water intakes at Upper and Lower Indian Ford Springs, updating and rerouting water supply and discharge piping, refurbishing a pump station at an existing surface water intake in the Klickitat River, demolishing the existing pollution abatement pond and converting an existing fall Chinook rearing pond to a pollution abatement pond, replacing the existing adult holding and spawning building, adding circular rearing tanks, building a chemical storage shed, and renovating the existing hatchery building to improve usable space, security, and operations monitoring systems. The total disturbed area would be approximately 16 acres. In addition, BPA might also fund construction of two staff residences.

Upgrades would improve rearing conditions for spring Chinook, would provide the capacity to increase production from 600,000 spring Chinook smolts to 800,000 smolts, and would help the spring Chinook program transition from using only hatchery-raised fish for broodstock (a “segregated” or “isolated” program) to a program that incorporates natural-origin fish in the broodstock (an “integrated” program). Currently, natural-origin spring Chinook from the Klickitat basin have higher survival rates than hatchery fish. Incorporating natural-origin fish into the broodstock is expected to increase the fitness, productivity, survival, and harvest of this species.

Upgrades to the water system would increase the operational flexibility of the facility. Adding river water to the water supply would allow operators to release smolts later in the spring when conditions in the Columbia River are more favorable to smolts migrating to the ocean. The water system upgrades also would reduce long-term maintenance and improve the quality of the hatchery effluent. Energy efficiency measures would be incorporated as possible into facility upgrade designs. BPA is not proposing to fund fish production or to take over any Mitchell Act funding for the hatchery.

BPA will be the lead agency for preparation of the EIS. Cooperating agencies in addition to NMFS may be identified as the proposed project proceeds through the NEPA process.

Alternatives Proposed for Consideration. In the EIS, BPA is currently considering two alternatives: To fund proposed upgrades that would improve hatchery facilities, would allow the transition to an integrated program, and would provide additional capacity for spring Chinook smolt production to increase from 600,000 to 800,000; and a no action alternative of not funding the proposal. Other reasonable alternatives identified during the scoping process may also be evaluated in the EIS.

Public Participation and Identification of Environmental Issues. The potential environmental issues identified so far for this project include effects of construction activity on water quality, Endangered Species Act (ESA)-listed fish, and rare and sensitive plants and wildlife; and the operational effects of changes to the water supply and discharge system on water quality. The effects of changes to the spring Chinook program that could be facilitated by the upgrades will also be evaluated, including the risk of competition between increasing numbers of naturally spawning spring Chinook and ESA-listed fish such as bull trout and steelhead; the effects of additional activities and facilities required to monitor a changed hatchery program; and the effects of increases in harvest opportunities.

BPA has established an extended seven-week scoping period during which concerned members of the public, interest groups, state and local governments, and any other interested parties are invited to comment on the scope of the proposed EIS. Scoping will help BPA ensure that a full range of issues related to this proposal are addressed in the EIS and will help to identify significant or potentially significant impacts that may result from the proposed project.

When completed, the Draft EIS will be circulated for review and comment, and BPA will hold at least one public comment meeting to solicit comments on the Draft EIS. BPA will consider and respond in the Final EIS to comments received on the Draft EIS. BPA's subsequent decision will be documented in a Record of Decision.

Issued in Portland, Oregon, on September 28, 2017.
Elliot E. Mainzer,
Administrator and Chief Executive Officer.

[FR Doc. 2017-21575 Filed 10-5-17; 8:45 am]

BILLING CODE 6450-01-P